DEPARTMENT OF AGRICULTURE

Animal and Plant Health Inspection Service

[Docket No. APHIS-2011-0063]

Notice of Request for Approval of an Information Collection; Brucellosis First Point Testing of Cattle and Bison; Brucellosis Standard Card Test

AGENCY: Animal and Plant Health Inspection Service, USDA.

ACTION: New information collection; comment request.

SUMMARY: In accordance with the Paperwork Reduction Act of 1995, this notice announces the Animal and Plant Health Inspection Service's intention to request approval of an information collection associated with the State-Federal Brucellosis Eradication Program.

DATES: We will consider all comments that we receive on or before October 7, 2011.

ADDRESSES: You may submit comments by either of the following methods:

• Federal eRulemaking Portal: Go to http://www.regulations.gov/#!documentDetail;D=APHIS-2011-0063-0001.

• Postal Mail/Commercial Delivery: Send your comment to Docket No. APHIS-2011-0063, Regulatory Analysis and Development, PPD, APHIS, Station 3A-03.8, 4700 River Road Unit 118, Riverdale, MD 20737-1238.

Supporting documents and any comments we receive on this docket may be viewed at http://www.regulations.gov/#!docketDetail;D=APHIS-2011-0063 or in our reading room, which is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: For information on brucellosis first point testing of cattle and bison and the standard card test, contact Dr. Arnold A. Gertonson, Senior Staff Veterinarian, Ruminant Health Programs, NCAHP, NAHPP, VS, APHIS, 2150 Centre Avenue, Building B, MSC 3E20, Fort Collins, CO 90526-8117; (970) 494-7363. For copies of more detailed information on the information collection, contact Mrs. Celeste Sickles, APHIS' Information Collection Coordinator, at (301) 851-2908.

SUPPLEMENTARY INFORMATION: Title: Brucellosis First Point Testing of Cattle and Bison; Brucellosis Standard Card Test.

OMB Number: 0579-xxxx.

Type of Request: Approval of an information collection.

Abstract: Under the Animal Health Protection Act (7 U.S.C. 8301 et seq.), the Animal and Plant Health Inspection Service (APHIS) of the United States Department of Agriculture is authorized, among other things, to prohibit or restrict the importation and interstate movement of animals and animal products to prevent the introduction into and dissemination within the United States of animal diseases and pests and for eradicating such diseases when feasible.

Brucellosis is a contagious disease that primarily affects cattle, bison, and swine. It causes the loss of young through spontaneous abortion or birth of weak offspring, reduced milk production, and infertility. The continued presence of brucellosis in a herd seriously threatens the health of other animals and can cause devastating losses to farmers in the United States.

The State-Federal Brucellosis Eradication Program, a national cooperative program, is working to eradicate this serious disease of livestock from the United States. The program uses a system of State and area classifications, movement restrictions, testing protocols, extensive epidemiological investigations, and other measures to prevent its spread and eradicate the disease.

First point testing (FPT) is a key method for controlling brucellosis and is performed at a Veterinary Services (VS)-approved stockyard or other points of first concentration when livestock are moved from the farm of origin. The brucellosis standard card test is used as the official FPT brucellosis test for cattle or bison when a State animal health official has specifically designated it as the official test for cattle and bison at VS-approved stockyards in that State. The test is used to determine the brucellosis disease status of cattle and bison for interstate movement from the approved stockyards and at VS-approved brucellosis diagnostic laboratories. Only authorized State and Federal brucellosis program personnel and accredited veterinarians may conduct the brucellosis standard card test on cattle and bison at premises other than VS-approved livestock facilities. Card test authorization involves information collection activities, including a memorandum of understanding, a card test notice, and an authorization form.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.1768953 hours per response.

Respondents: State animal health officials and accredited veterinarians.

Estimated annual number of respondents: 57.

Estimated annual number of responses per respondent: 4.8596491.

Estimated annual number of responses: 277.

Estimated total annual burden on respondents: 49 hours. (Due to averaging, the total annual burden hours may not equal the product of the annual number of responses multiplied by the reporting burden per response.)

All responses to this notice will be summarized and included in the request for OMB approval. All comments will also become a matter of public record.

Done in Washington, DC, this 2nd day of August 2011.
Gregory L. Parham,
Administrator, Animal and Plant Health Inspection Service.

[FR Doc. 2011-20010 Filed 8-5-11; 8:45 am]

BILLING CODE 3410-34-P